DEPARTMENT OF HEALTH AND HUMAN SERVICES

Agency for Healthcare Research and Quality

Challenge Competition: Announcement of AHRQ Challenge on Innovative Solutions to Update or Re-Create TeamSTEPPS Videos

AGENCY: Agency for Healthcare Research and Quality (AHRQ), HHS.

ACTION: Notice.

SUMMARY: The Agency for Healthcare Research and Quality (AHRQ) is seeking to announce a challenge competition to modernize TeamSTEPPS® video content; the videos are an integral part of AHRQ's TeamSTEPPS training program. TeamSTEPPS is an evidence-based set of tools aimed at improving patient outcomes by improving communication and teamwork among the members of healthcare teams. This challenge competition will be completed in two phases, with cash prizes awarded at the end of Phase 2.

DATES: Phase 1 Submission Deadline on June 20, 2022 and Phase 2 Submission Deadline on October 31, 2022.

ADDRESSES: Submit your responses electronically via: https://www.ahrq.gov/challenges/teamstepps-video/index.html.

FOR FURTHER INFORMATION CONTACT: Monika Haugstetter, Health Scientist Administrator, Email: TeamSTEPPSChallenge@ahrq.hhs.gov, Telephone: 301-427-1515.

SUPPLEMENTARY INFORMATION:

Problem Statement

The Agency for Healthcare Research and Quality (AHRQ), U.S. Department of Health and Human Services (HHS), is announcing a challenge competition to modernize TeamSTEPPS® video content; the videos are an integral part of AHRQ's TeamSTEPPS training program. The statutory authority for this challenge competition is Section 105 of the America COMPETES Reauthorization Act of 2010. TeamSTEPPS is an evidence-based set of tools aimed at improving patient outcomes by improving communication and teamwork among the members of healthcare teams.

Communication gaps among healthcare professionals are linked to poor patient safety outcomes. Conversely, effective teamwork, collaboration, and active communication are considered essential to safer healthcare. Strengthening teamwork and communication among healthcare personnel is a key initiative within the patient safety domain and can transform the culture of safety within healthcare. The TeamSTEPPS training program offers a plethora of methods to build team skills and improve teamwork in healthcare. The training videos are an important tool to demonstrate those methods and how they can be used to achieve the best possible outcomes.

For more than 15 years, the TeamSTEPPS curriculum has been widely used by the healthcare industry in various settings (including hospitals, outpatient clinics, nursing homes, and surgery centers). Medical and nursing schools routinely teach the TeamSTEPPS curricula as part of their core courses, and a variety of healthcare institutions and organizations promote TeamSTEPPS principles and techniques in their efforts to create skilled and cohesive teams. Several years have passed since many of the TeamSTEPPS videos were developed or last revised. In a fast-paced environment such as healthcare, this is a substantial amount of time. With advancements in health information technology, changes in how care is delivered, and an increased emphasis on engaging patients and families as members of the healthcare team, many of the current TeamSTEPPS videos need to be updated to align more closely with current clinical practice, standards of care, and improved methods of adult training and education.

Challenge Goal

Healthcare has evolved and advanced since the original TeamSTEPPS videos were created, and many of the current TeamSTEPPS videos no longer meet current healthcare setting needs. AHRQ plans to replace their content to capture the innovations and practices observed in the healthcare landscape today.

This AHRQ Challenge seeks innovators to update the current TeamSTEPPS videos to provide improved TeamSTEPPS tools for communication and collaboration among healthcare team members.

All existing TeamSTEPPS videos currently on the AHRQ website may be considered for updating.

This Challenge consists of two phases:

Phase 1: Elicit written proposals on innovatively modernizing current TeamSTEPPS videos in an equitable, culturally sensitive, and health literate manner (e.g., including diverse patients and providers, choice of clinical topics that affect diverse populations, modeling plain language). Each proposal is to be written in the form of a narrative story or a plan that briefly provides details about how to update an applicable TeamSTEPPS video topic, including video style, type of graphics, use of live or animated actors and/or narrator, and music, and plans for audience testing.

An organization may choose to update between 1 and 3 TeamSTEPPS video topics, submitting a separate proposal for each one. Each proposal will be considered and evaluated on its own merit. Organizations may wish to consider the following while deciding on which video(s) to select for refreshing: 1. The organization deems a video or videos to be of most urgency to update and 2. the organization has experience in that particular area. A total of 10 proposals will be selected as winners for Phase 1.

Phase 2: Organizations selected as winners in Phase 1 will be invited to produce a replacement for the existing TeamSTEPPS video identified in their proposal. Examples of products to consider that may replace a TeamSTEPPS video include animation videos, motion graphics videos, whiteboard videos, live action videos, live action screencast, or video showcases. This is not an exhaustive list; innovative ideas of how to apply TeamSTEPPS training strategies appropriate for a healthcare environment are encouraged. Each video shall be up to 5 minutes in length. Each video shall be accompanied by a short debrief guide—a series of prompts to the learners who watch the video—in written format to support learners in adopting new practices. The debrief guide may include, for example, questions about how the learner would have handled the situation, how the learner would use the TeamSTEPPS tool featured in the video, and similar probing questions.

Timeline and Prize Amounts

AHRQ is hosting this challenge as a two-phase competition. All costs associated with both submitting proposals and creating the videos will be the responsibility of the Challenge participant. Cash prizes will be awarded only after the videos are evaluated and determined acceptable at the end of Phase 2.

Timeline

April 27, 2022—Challenge launch.

June 20, 2022—Submissions for Phase 1 (written proposals) are due. AHRQ will complete the review of the proposals within 6-8 weeks of closing the announcement.

August 2022—AHRQ will announce the Phase 1 winners at the end of August 2022. Phase 2 of the Challenge will commence once the Phase 1 winners are announced and notified by August 31, 2022. The AHRQ team will schedule a live, virtual technical assistance webinar with all winners of Phase 1 to discuss scope of content, end-product quality, accessibility/compliance with Section 508, and address questions that the winners may have.

October 31, 2022—Phase 2 participants will have 60 calendar days from notification to create and submit their production(s) as described in their proposal(s). The deadline to submit the videos is October 31, 2022.

December 2022—The final winners of Phase 2 of the competition will be announced in December of 2022.

Prize Amounts

Only the participants selected as winners of Phase 1 will be eligible to enter Phase 2. Phase 1 winners will not be awarded cash prizes.

Winners of Phase 2 will be awarded $10,000 per successful video. Up to 10 cash prizes will be awarded.

Participants in Phase 2 may be disqualified if their submitted video deviates from their winning proposal or if the production quality does not meet standards per the assessment criteria stated in this announcement and the technical assistance standards. In case any Phase 2 proposals are disqualified, another proposal(s) from Phase 1 may be considered; any additional winner(s) will be contacted about submitting a video and will be given a new 60-day deadline to do so.

How To Enter the Challenge

Participants can register by visiting the Challenge.gov website or the AHRQ website (https://www.ahrq.gov/challenges/teamstepps-video/index.html). Participants should carefully review Challenge information and submission requirements on the website, including the intellectual property rules and assessment criteria.

Submission Requirements

Phase 1

The submitted proposals must be written in US English and submitted using the Challenge.gov website or the AHRQ website no later than June 20, 2022. Participants shall submit no more than three (3) video proposals —one proposal to replace one existing TeamSTEPPS video topic. No proposal shall describe more than one video. Each proposal will be no more than two pages, double spaced, in Calibri font, 11-point type size, with 1-inch margins. AHRQ encourages participants to include with their proposal a link to a short (no longer than 5 minutes) sample of a previously created video on a site that does not require a password. Sample videos do not need to address TeamSTEPPS principles; they should demonstrate the submitter's ability to produce an acceptable training video that will meet the specifications of this Challenge. Include in proposals plans for meeting WCAG 2.0 and Section 508 compliance standards.

Phase 2

Video submissions shall be in US English and shall not include any branding or endorsements such as logos, wording, title slides, or other designs on posters, signs, clothing, equipment, or any other objects that can be seen in the video. Participants must secure permission releases from each and all individuals who appear in the video; location releases for any shooting location that is not controlled by the participant; music licenses for any music used in the video; and permission releases/licenses to use copyrighted property, if applicable. Participants must be prepared to provide AHRQ with these releases and licenses if their videos are chosen as winners of the Challenge.

Prior to submission, Challenge participants shall ensure that the product(s) include closed-captioning and audio description in compliance with WCAG 2.0 and Section 508. The video(s) must be in a YouTube format with the proper codecs: MP4 (H.264 or H.265), MOV, AVI, WMV with an aspect of 16:9. Participants shall submit their product(s) online using the Challenge.gov website or the AHRQ website: https://www.ahrq.gov/challenges/teamstepps-video/index.html.

Each video is required to be accompanied by a guide that is no longer than 250 words. The guide will function as a resource for debriefing on the TeamSTEPPS concept or tool demonstrated in the video.

Review Process

All submissions will be reviewed by at least two individuals who will score them based on the assessment criteria and provide a brief comment about the submission.

The scores/comments on Phase 1 and Phase 2 submissions will be compiled, and a ranked summary provided to AHRQ staff. AHRQ will select winners based on quantitative and qualitative assessments.

Evaluation Criteria for Selecting Winning Applications

Assessment Criteria for Phase 1 TeamSTEPPS Video Proposal

Compliance (pass/fail)—Does the Phase 1 proposal adequately address required compliance standards (WCAG 2.0 and Section 508)?

Overall Approach (40 pts)—Does the proposal sufficiently describe why a particular TeamSTEPPS video has been chosen for updating? Does the proposal clearly, concisely, and adequately describe the approach chosen to update the TeamSTEPPS video? Does the proposal describe how the new video would be effective in augmenting the TeamSTEPPS program to train healthcare team members on communication and collaboration, and does it describe how the video will address equity, cultural sensitivity and health literacy? Does the proposal include a sample of past video work completed by the Challenge participants? Does the proposal include conducting audience testing?

Impact (20 pts)—Does the proposal tell a compelling and impactful story to demonstrate how the new production would be aligned with the current healthcare landscape to fully support the TeamSTEPPS training program?

Innovation and Creativity (25 pts)—Does the proposal include innovative and appropriate methods for adult learning? Does the proposal use creative ways to update the existing TeamSTEPPS videos? Does the proposal include new insight and approaches to broadening diversity in TeamSTEPPS?

Healthcare needs (15 pts)—Does the approach clearly address healthcare needs, current issues, approaches to improve patient safety (e.g., patient family engagement), changes in HIPAA laws and healthcare settings, and/or emerging trends (e.g., artificial intelligence in healthcare, telemedicine)?

Assessment Criteria for Phase 2 TeamSTEPPS Video Product

Compliance (pass/fail)—Does the completed Phase 2 video meet the compliance standards?

Approach (30 pts)—Does the production clearly follow the approach in the proposal? Is the message consistent with the proposal? Does the production clearly communicate the content/theme? Is it focused on the topic and organized? Is it captivating and edifying?

Content (30 pts)—Is it appropriate for healthcare? Does it address diversity, equity, and inclusion? Is it tailored to diverse audiences from cultural, technological, and healthcare setting perspectives?

Creativity (20 pts)—How creatively does the new product convey the message? Is it innovative? Is it well designed?

Quality (20 pts)—How is the quality of the production? Is the lighting, sound, editing, and contrast appropriate? Is the dialogue clear and easy to understand? Is it visually appealing and effective? Is the captioning accurate?

Eligibility Rules for Participating in the Challenge

To be eligible under this Challenge, an individual (whether participating singly or in a group) or entity:

1. Shall have registered (Challenge.gov) to participate in the Challenge.

2. Shall have complied with the rules set forth in this announcement for participation in this Challenge.

3. Shall be incorporated and maintain a primary place of business in the United States (in the case of a private entity), and in the case of an individual, whether participating singly or in a group, shall be a citizen or permanent resident of the United States.

4. May not be a Federal entity or Federal employee acting within the scope of their employment. (All Federal employees should consult with their agency Ethics Official to determine whether the federal ethics rules will limit or prohibit the acceptance of a prize).

5. May not be an employee of AHRQ or any other company, organization, or individual involved with the design, production, execution, judging, or distribution of the Challenge, or their immediate family (spouse, parents and step-parents, siblings and step-siblings, and children and step-children), or household members (people who share the same residence at least 3 months out of the year).

6. May not use Federal funds from a grant to develop Challenge applications unless consistent with the purpose of the grant award.

7. May not use Federal funds from a contract to develop Challenge applications or to fund efforts in support of a Challenge submission.

8. Shall not be deemed ineligible because the individual or entity used Federal facilities or consulted with Federal employees during a competition if the facilities and employees are made equitably available to all individuals and entities participating in the competition.

9. Shall not be required to purchase liability insurance as a condition of participation in this competition.

Additional Rules of Participation

By participating in this Challenge, each individual (whether participating singly or in a group) or entity:

1. Agrees to follow all applicable Federal, State, and local laws, regulations, and policies.

2. Agrees to comply with all terms and conditions of participation in this Challenge.

3. Agrees that the submission will not use HHS or AHRQ logos or official seals, except as required by AHRQ. Videos submitted in response to this announcement must contain AHRQ/HHS branding as provided by AHRQ during the technical assistance session. Notwithstanding this authorized use of AHRQ/HHS branding, participants will not claim endorsement by AHRQ/HHS.

4. Videos must not contain branding of submitting organization, group, or individual. This includes logos, wording, or other designs on posters, signs, clothing, equipment, or any other objects that can be seen in the video.

5. Understands that all materials submitted to AHRQ as part of a submission become AHRQ records. Any confidential commercial or financial information contained in a submission must be clearly designated as such at the time of submission.

6. Submitters of winning videos may announce their status and may link to the final video posted on the AHRQ website, as well as share promotional materials and social media posts created by AHRQ/HHS about the competition and winning videos; however, except as a link to AHRQ, winners may not post the final video, or any draft version or any portion of the video, on their own website or through social media platforms.

7. Agrees that the submission must not infringe upon copyright or any other rights of any third party.

8. Agrees to assume any and all risks and waive claims against the Federal Government and its related entities, except in the case of willful misconduct, for any injury, death, damage, or loss of property, revenue, or profits, whether direct, indirect, or consequential, arising from participation in this prize contest, whether the injury, death, damage, or loss arises through negligence or otherwise.

9. Agrees to indemnify the Federal Government against third-party claims for damages arising from or related to Challenge activities.

10. Phase 2 video submitters understand that circulation of winning videos could be worldwide, and that the Federal Government will not compensate the submitters for this use; winners shall receive a one-time cash prize as set forth in this announcement.

11. Understands that AHRQ reserves the right to cancel, suspend, and/or modify this prize contest, or any part of it, for any reason, at AHRQ's sole discretion. AHRQ also reserves the right not to award any prizes if no entries are deemed worthy.

12. Understands that AHRQ will not select a winner that is named on the Excluded Parties List System (EPLS).

Intellectual Property (IP) Rights

To be eligible to win this Challenge, a submission must meet the following requirements:

1. Each participant retains title and full ownership in and to their submission. Participants expressly reserve all intellectual property rights not expressly granted.

2. By participating in the Challenge, each participant (whether participating singly or in a group) acknowledges that he or she is the sole author or owner of, or has a right to use, any copyrightable works that the submission comprises, that the works are wholly original with the participant (or is an improved version of an existing work that the participant has sufficient rights to use and improve), and that the submission does not infringe any copyright or any other rights of any third party of which participant is aware. In addition, each participant (whether participating singly or in a group) grants to the U.S. Government a paid-up, nonexclusive, royalty-free, irrevocable worldwide license in perpetuity and the right to reproduce, publish, post, link to, share, display publicly (on the web or elsewhere) and prepare derivative works, including the right to authorize others to do so on behalf of the U.S. Government.

3. Each participant must clearly delineate any intellectual property and/or confidential commercial information contained in a submission that the participant wishes to protect as proprietary data, in accordance with Additional Rules of Participation No. 5.

4. If the submission includes any third-party works (such as third-party content or open-source code), the participant must be able to provide, upon request, documentation of all appropriate licenses and releases for use of such third-party works. If the participant cannot provide documentation of all required licenses and releases, AHRQ reserves the right, in its sole discretion, to disqualify the submission.

Marquita Cullom,
Associate Director.

[FR Doc. 2022-08908 Filed 4-26-22; 8:45 am]

BILLING CODE 4160-90-P